DEPARTMENT OF TRANSPORTATION

Federal Aviation Administration

Notice of Intent To Rule on Request To Release Airport Property at the Rogue Valley; International—Medford Airport, Medford, OR

AGENCY: Federal Aviation Administration (FAA), DOT.

ACTION: Notice of Request to Release Airport Property.

SUMMARY: The FAA proposes to rule and invite public comment on the release of land at Rogue Valley International—Medford Airport under the provisions of Section 125 of the Wendell H. Ford Aviation Investment Reform Act for the 21st Century (AIR 21), now 49 U.S.C. 47107(h)(2).

DATES: Comments must be received on or before January 4, 2007.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington, 98057-3356.

In addition, one copy of any comments submitted to the FAA must be mailed or delivered to Mr. Bern E. Case, Airport Director, at the following address: Mr. Bern E. Case, Airport Director, 3650 Biddle Road, Medford, OR 97504.

FOR FURTHER INFORMATION CONTACT: Mr. William L. Watson, OR/ID Section Supervisor, Federal Aviation Administration, Northwest Mountain Region, Seattle Airports District Office, 1601 Lind Avenue, SW., Suite 250, Renton, Washington 98057-3356.

The request to release property may be reviewed, by appointment, in person at this same location.

SUPPLEMENTARY INFORMATION: The FAA invites public comment on the request to release property at the Rogue Valley International—Medford Airport under the provisions of the AIR 21 (49 U.S.C. 47107(h)(2)).

On November 16, 2006, the FAA determined that the request to release property at Rogue Valley International—Medford Airport submitted by the airport meets the procedural requirements of the Federal Aviation Administration. The FAA may approve the request, in whole or in part, no later than January 4, 2006.

The following is a brief overview of the request:

Rogue Valley International—Medford Airport is proposing the release of approximately 1.70 acres of airport property in exchange of 1.34 acres of private property currently used to house runway approach lights.

Any person may inspect, by appointment, the request in person at the FAA office listed above under FOR FURTHER INFORMATION CONTACT.

In addition, any person may, upon appointment and request, inspect the application, notice and other documents germane to the application in person at Rogue Valley International—Medford Airport.

Issued in Renton, Washington on November 16, 2006.
J. Wade Bryant,
Manager, Seattle Airports District Office.

[FR Doc. 06-9512 Filed 12-4-06; 8:45 am]

BILLING CODE 4910-13-M